FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2013 thru March 29, 2013
03/01/2013
20130612 | G | Carl C. Icahn; Herbalife Ltd.; Carl C. Icahn.
20130618 | G | Exxon Mobil Corporation; Wolverine Pipe Line Company; Exxon Mobil Corporation.
20130619 | G | General Electric Company; Advanced Atomization Technologies LLC; General Electric Company.
03/04/2013
20130615 | G | The Swatch Group Ltd.; Harry Winston Diamond Corporation; The Swatch Group Ltd.
20130625 | G | Nippon Yusoki, Co., Ltd.; Mitsubishi Heavy Industries, Ltd.; Nippon Yusoki Co., Ltd.
03/07/2013
20130495 | G | The NASDAQ OMX Group, Inc.; 2003 TIL Settlement; The NASDAQ OMX Group, Inc.
20130628 | G | Western Gas Partners, LP; Chesapeake Energy Corporation; Western Gas Partners, LP.
20130630 | G | Algonquin Power & Utilities Corp.; Energy Transfer Equity, L.P.; Algonquin Power & Utilities Corp.
03/08/2013
20130621 | G | CVC Capital Partners Asia Pacific III L.P.; Philippine Long Distance Telephone Company (PLDT); CVC Capital Partners Asia Pacific III L.P.
03/11/2013
20130604 | G | Scientific Games Corporation; WMS Industries Inc.; Scientific Games Corporation.
20130629 | G | AZZ incorporated; CCP II AIV II, L.P.; AZZ incorporated.
20130631 | G | Precision Castparts Corp.; General Electric Company; Precision Castparts Corp.
20130632 | G | Cardinal Health, Inc.; Clayton, Dubilier & Rice Fund VIII, L.P.; Cardinal Health, Inc.
20130634 | G | Jabil Circuit, Inc.; Nypro Inc. Employee Stock Ownership Plan; Jabil Circuit, Inc.
20130635 | G | Broad Street Energy Partners, L.P.; Cadent Energy Partners II, L.P.; Broad Street Energy Partners, L.P.
20130636 | G | Apollo Investment Fund VII, L.P.; Hostess Brands, Inc.; Apollo Investment Fund VII, L.P.
20130639 | G | JPMorgan Chase & Co.; SGH (No.2) Limited; JPMorgan Chase & Co.
20130640 | G | Sinclair Broadcast Group, Inc.; Dayton-Cox Trust A; Sinclair Broadcast Group, Inc.
20130641 | G | Starwood Property Trust, Inc.; LNR Property LLC; Starwood Property Trust, Inc.
20130642 | G | Odyssey Investment Partners Fund IV, L.P.; MSouth Equity Partners, L.P.; Odyssey Investment Partners Fund IV, L.P.
20130645 | G | Steve Ballmer; Maloof Sports & Entertainment, LLC; Steve Ballmer.
20130652 | G | Health Management Associates, Inc.; Bayfront Health System, Inc.; Health Management Associates, Inc.
03/12/2013
20130633 | G | Greeneden Topco S.C.A.; Michael J. Saylor; Greeneden Topco S.C.A.
03/13/2013
20130656 | G | Linn Energy, LLC; Berry Petroleum Company; Linn Energy, LLC.
03/14/2013
20130653 | G | GTCR Fund X/B LP Wells Fargo & Company; GTCR Fund X/B LP.
20130659 | G | Total System Services, Inc.; NetSpend Holdings, Inc.; Total System Services, Inc.
03/15/2013
20130575 | G | Baxter International Inc.; Inspiration Biopharmaceuticals, Inc.; Baxter International Inc.
20130654 | G | DCP Midstream Partners, LP; Phillips 66; DCP Midstream Partners, LP.
20130655 | G | DCP Midstream Partners, LP; Spectra Energy Corp.; DCP Midstream Partners, LP.
20130660 | G | Oak Investment Partners XII Limited Partnership; MobiTV, Inc.; Oak Investment Partners XII, Limited Partnership.
20130662 | G | Crestview Partners II, L.P.; KeyCorp; Crestview Partners II, L.P.
20130665 | G | Wind Point Partners VII-A, L.P.; WP FlexPack Holdings S.a.r.l.; Wind Point Partners VII-A, L.P.
20130667 | G | Riverstone Global Energy and Power Fund V, L.P. Industrial Sealing Solutions Holdings LLC; Riverstone Global Energy and Power Fund V, L.P.
20130668 | G | Telephone and Data Systems, Inc. Voting; Baja Broadband Holding Company, LLC; Telephone and Data Systems, Inc. Voting.
20130669 | G | Cole Credit Property Trust III, Inc.; Christopher H. Cole; Cole Credit Property Trust III, Inc.
20130675 | G | Charter Communications, Inc.; Cablevision Systems Corporation; Charter Communications, Inc.
20130677 | G | Suzuki Motor Corporation; American Suzuki Motor Corporation; Suzuki Motor Corporation.
03/18/2013
20130673 | G | Ajinomoto Co., Inc.; Telegraph Hill Partners II, L.P.; Ajinomoto Co., Inc.
03/19/2013
20130678 | G | ITOCHU Corporation; USPF III Leveraged Feeder, L.P.; ITOCHU Corporation.
20130679 | G | Exterran Partners, L.P.; Exterran Holdings, Inc.; Exterran Partners, L.P.
03/22/2013
20130670 | G | Altisource Portfolio Solutions S.A.; Ocwen Financial Corporation; Altisource Portfolio Solutions S.A.
20130676 | G | Aberdeen Asset Management PLC; Artio Global Investors Inc.; Aberdeen Asset Management PLC.
20130682 | G | Ernesto Bertarelli; Raymond James Capital Partners, L.P.; Ernesto Bertarelli.
20130686 | G | New Salem Credit Union; Capital Credit Union; New Salem Credit Union.
20130688 | G | BayCare Health System, Inc.; Mid-Florida Medical Services, Inc.; BayCare Health System, Inc.
20130690 | G | Chamly Aspen Trust; Compagnie de Saint-Gobain; Chamly Aspen Trust.
20130702 | G | Foundation Asset Management Sweden AB; Hoganas AB; Foundation Asset Management Sweden AB.
20130703 | G | Jenny Linden Urnes; Hoganas AB; Jenny Linden Urnes.
03/25/2013
20130643 | G | Berkshire Hathaway Inc.; H.J. Heinz Company; Berkshire Hathaway Inc.
20130644 | G | 3G Special Situations Fund III, L.P.; H.J. Heinz Company; 3G Special Situations Fund III, L.P.
20130697 | G | Stefan Kaluzny Hot Topic, Inc.; Stefan Kaluzny.
03/26/2013
20130674 | G | Cerberus Institutional Partners, L.P.; Sanofi; Cerberus Institutional Partners, L.P.
20130689 | G | Thoma Bravo Fund IX, L.P.; nCircle Network Security, Inc.; Thoma Bravo Fund IX, L.P.
03/27/2013
20130648 | G | Donald G. Lang; Avery Dennison Corporation; Donald G. Lang.
20130649 | G | Stuart W. Lang; Avery Dennison Corporation; Stuart W. Lang.
20130694 | G | Holding Bercy Investissement S.C.A.; TrustHouse Services Holdings, LLC; Holding Bercy Investissement S.C.A.
20130695 | G | ABRY Partners VII, L.P.; Castle Harlan Partners V, L.P.; ABRY Partners VII, L.P.
03/28/2013
20130685 | G | Mr. Mark Zuckerberg; Microsoft Corporation; Mr. Mark Zuckerberg.
20130698 | G | Energy Capital Partners II-A, LP; Dominion Resources, Inc.; Energy Capital Partners II-A, LP.
03/29/2013
20130681 | G | ORIX Corporation; Cooperatieve Centrale Raiffeisen- Boerenleenank B.A.; ORIX Corporation.
20130691 | G | Marlin Equity III, L.P.; Nokia Corporation; Marlin Equity III, L.P.
20130696 | G | Wuhan Iron and Steel (Group) Corporation; ThyssenKrupp AG; Wuhan Iron and Steel (Group) Corporation.
20130704 | G | Greenbriar Equity Fund II, L.P.; EDAC Technologies Corporation; Greenbriar Equity Fund II, L.P.
20130706 | G | Hecla Mining Company; Aurizon Mines Ltd.; Hecla Mining Company.
20130709 | G | KKR North America Fund XI, L.P.; Gardner Denver, Inc.; KKR North America Fund XI, L.P.
20130718 | G | Harvest Partners VI, L.P.; Excellere Capital Fund, L.P.; Harvest Partners VI, L.P.

FOR FURTHER INFORMATION CONTACT:

Renee Chapman, Contact Representative; or

Theresa Kingsberry, Legal Assistant;

Federal Trade Commission, Premerger Notification Office, Bureau of Competition, Room H-303, Washington, DC 20580, (202) 326-3100.

By Direction of the Commission.
Donald S. Clark,
Secretary.

[FR Doc. 2013-08214 Filed 4-10-13; 8:45 am]

BILLING CODE 6750-01-M